DEPARTMENT OF COMMERCE

National Oceanic and Atmospheric Administration

DEPARTMENT OF THE INTERIOR

Fish and Wildlife Service

RIN 0648-XA439

Notice of Availability of a Final Environmental Impact Statement and Final Habitat Conservation Plan

AGENCIES: National Marine Fisheries Service, National Oceanic and Atmospheric Administration, Commerce; Fish and Wildlife Service, Interior.

ACTION: Notice of Availability; Final Environmental Impact Statement and Habitat Conservation Plan.

SUMMARY: The National Marine Fisheries Service (NMFS) and the U.S. Fish and Wildlife Service (FWS) (collectively the Services) announce the availability of the final Environmental Impact Statement (EIS) associated with the applications received from the City of Kent (Kent), Washington, for Incidental Take Permits (ITPs) under the Endangered Species Act of 1973, as amended (ESA). We also announce the availability of Kent's Clark Springs Water Supply System Habitat Conservation Plan (HCP) and Implementing Agreement (IA). The final EIS addresses the Services' proposed issuance of ITPs to Kent for water withdrawal and habitat restoration actions on Rock Creek, King County, Washington. The proposed ITPs would authorize incidental take of three listed and six unlisted species of fish covered by Kent's Clark Springs Water Supply HCP. This notice provides an opportunity for the public to review the final EIS, HCP, and IA.

DATES: Comments must be received from interested parties on or before August 4, 2011. The Services' decisions on issuance of ITPs will occur no sooner than 30 days after the publication of the Environmental Protection Agency's (EPA) notice of the final EIS in the Federal Register.

ADDRESSES: Send comments to Tim Romanski, Project Lead, FWS, 510 Desmond Drive SE, Suite 102, Lacey, WA 98503; by facsimile at (360) 753-9518. Alternatively, you may send comments to Matt Longenbaugh, Project Lead, NMFS, 510 Desmond Drive SE, Suite 103, Lacey, WA 98503; by facsimile at (360) 753-9517.

FOR FURTHER INFORMATION CONTACT: The final documents are posted on the Internet at: http://www.fws.gov/wafwo/. For further information, or to receive the documents on CD ROM, please contact Tim Romanski, at the FWS address above or by telephone at (360) 753-5823; or Matt Longenbaugh, at the NMFS address above or by telephone at (360) 753-7761.

SUPPLEMENTARY INFORMATION:

Background

Section 9 of the ESA (16 U.S.C. 1538) and implementing regulations prohibit the “taking” of a species listed as endangered or threatened. The term “take” is defined under the ESA (16 U.S.C. 1532(19)) as to mean harass, harm, pursue, hunt, shoot, wound, kill, trap, capture, or collect, or attempt to engage in any such conduct. “Harm” is defined by FWS regulation to include significant habitat modification or degradation where it actually kills or injures wildlife by significantly impairing essential behavioral patterns, including breeding, feeding, and sheltering (50 CFR 17.3, 50 CFR 222.102). NMFS' definition of harm includes significant habitat modification or degradation where it actually kills or injures fish or wildlife by significantly impairing essential behavioral patterns, including breeding, feeding, spawning, migrating, rearing, and sheltering (64 FR 60727; November 8, 1999).

Section 10 of the ESA and implementing regulations specify requirements for the issuance of ITPs to non-Federal landowners for the take of endangered and threatened species. Any proposed take must be incidental to otherwise lawful activities, not appreciably reduce the likelihood of the survival and recovery of the species in the wild, and minimize and mitigate the impact of such take to the maximum extent practicable. In addition, an applicant must prepare a conservation plan describing the impact that will likely result from such taking, the strategy for minimizing and mitigating the incidental take, the funding available to implement such steps, alternatives to such taking, and the reasons such alternatives are not being implemented. FWS regulations governing permits for Federally endangered and threatened species can be found in 50 CFR part 17. NMFS regulations governing permits for the incidental take of Federally endangered and threatened species are found in 50 CFR 222.307.

The ITP applications are for the operation and maintenance of Kent's Clark Springs Water Supply System adjacent to Rock Creek, King County, Washington. The Clark Springs Water Supply System consists of a spring-fed infiltration gallery and three well pumps. This facility is located adjacent to Rock Creek 1.8 miles upstream of the creek's confluence with the Cedar River. The facility is surrounded by 320 acres of Kent-owned land that is geographically separated from Kent. Covered activities can be summarized as follows:

• Water diversions of Kent's existing groundwater and surface water rights via infiltration gallery, well pumps, and infrastructure;

• Operation and maintenance of Clark Springs Water Supply facilities;

• Maintenance of 320 acres of Kent-owned property as it relates to the protection of its water supply; and

• Operation and maintenance of a water augmentation system for the enhancement of instream flows.

The ITP applications Kent submitted to the Services address the potential take of three ESA-listed threatened fish species and six non-listed fish species that may be affected by Kent's water withdrawal activities at the Clark Springs facility in the Rock Creek Watershed. The listed species under FWS jurisdiction is the bull trout (Salvelinus confluentus), listed as threatened. Non-listed species under FWS jurisdiction include coastal cutthroat trout (Oncorhynchus clarki clarki), Pacific lamprey (Lampetra tridentatus), and river lamprey (L. ayresi). Listed species under NMFS jurisdiction are the Puget Sound Chinook salmon (O. tshawytscha) and Puget Sound steelhead trout (O. mykiss), both listed as threatened. Non-listed species under NMFS jurisdiction include coho salmon (O. kisutch), chum salmon (O. keta), and sockeye salmon (O. nerka).

National Environmental Policy Act Compliance

The National Environmental Policy Act (NEPA) (42 U.S.C. 4321 et seq.) requires Federal agencies to conduct an environmental analysis of their proposed actions to determine if the actions may significantly affect the human environment. The Services' proposals to issue ITPs are Federal actions that trigger the need for compliance with NEPA. Accordingly, as the Federal agencies responsible for compliance under NEPA, the Services have jointly prepared an EIS that analyzes alternatives associated with issuance of the ITPs. The analysis provided in the final EIS is intended to accomplish the following: Inform the public of the agencies' proposed action and alternatives; address public comments received on the draft EIS and draft HCP; and disclose the direct, indirect, and cumulative effects on the human environment resulting from our proposed action and alternatives. The final EIS reflects changes made to the draft documents resulting from comments received during the public comment period. Responses to comments received from the public are included in the final EIS.

The final EIS analyzed two alternatives: The “No-Action” alternative, under which Kent would continue operating the Clark Springs facility without benefit of incidental take coverage from the Services; and, the “Proposed Action” alternative involving implementation of Kent's HCP, FWS issuance of an ITP for bull trout and three unlisted species, and NMFS issuance of an ITP for Chinook salmon, steelhead trout, and three unlisted species. Five other alternatives were considered, but dismissed from detailed analysis. Four of the dismissed alternatives were not analyzed in detail because they did not meet the purpose and need. They would not produce reliable water sources with sufficient excess capacity to augment or replace water withdrawals at the Clark Springs Facility during the low-flow periods between October 1 and December 31 to a level that would meet the City's current and future water demands. The fifth dismissed alternative considered a shorter permit term. The Services determined that the environmental impacts between a 20-year and 50-year term would not differ, and analysis of a shorter permit term in the EIS would not garner additional information to make an informed decision regarding impacts to the listed species or the human environment.

Public Involvement

The Services formally initiated an environmental review of the project through publication of a Notice of Intent to prepare a draft EIS in the Federal Register on June 19, 2006 (71 FR 35286). That notice also announced a public scoping period during which interested parties were invited to provide written comments expressing their issues or concerns relating to the proposal, and to attend a public scoping meeting held in Kent, Washington. Utilizing public scoping comments, the Services prepared a draft EIS to analyze the effects of alternatives on the human environment. On April 23, 2010, the Services published a notice of availability in the Federal Register (75 FR 21344) of the draft EIS, draft HCP, and draft IA for a 60-day public comment period. On May 7, 2010, the EPA published in the Federal Register (75 FR 25238) their notice of availability of the draft EIS.

Public Review

Copies of the final FEIS, HCP, and IA are available for review (see FOR FURTHER INFORMATION CONTACT above). Any comments we receive will become part of the administrative record and will be available to the public. Before including your address, phone number, e-mail address, or other personal identifying information in your comment, you should be aware that your entire comment—including your personal identifying information—may be made publicly available at any time. If you wish us to withhold your name and/or address, you must state this prominently at the beginning of your comment. While you can ask us in your comment to withhold your personal identifying information from public review, we cannot guarantee that we will be able to do so. We will honor your request to withhold your personal information to the extent allowable by law.

We will evaluate the application, associated documents, and comments submitted to determine whether the application meets the requirements of the ESA and NEPA. A permit decision will be made no sooner than 30 days after the publication of the EPA's final EIS notice in the Federal Register, completion of the Record of Decision and the Services' ESA decision documents. If the Services determine that all requirements are met, we will issue ITPs under section 10(a)(1)(B) of the ESA to Kent for take of the covered species, incidental to otherwise lawful activities in accordance with the HCP, the IA, and the ITPs.

Dated: June 28, 2011.
Richard Hannan,
Deputy Regional Director, U.S. Fish and Wildlife Service, Region 1, Portland, Oregon.
Dated: June 28, 2011.
Angela Somma,
Chief, Endangered Species Division, Office of Protected Resources, National Marine Fisheries Service.

[FR Doc. 2011-16781 Filed 7-1-11; 8:45 am]

BILLING CODE 3510-22-P; 4310-55-P